FEDERAL MARITIME COMMISSION

[Docket No. 07-04]

Norland Industries, Inc., Linna Textiles Manufacturing Limited, Medcorp Distributors, Inc., Malan Garment Limited and Malan Garment, Inc. v. Reliable Logistics, LLC; Notice of Filing of Amended and Supplemental Complaint

Notice is given that an Amended and Supplemental Complaint has been filed with the Federal Maritime Commission (“Commission”) by Norland Industries, Inc., Linna Textiles Manufacturing Limited, Medcorp Distributors, Inc., Malan Garment Limited, and Malan Garment, Inc. (“Complainants”) in this proceeding against Reliable Logistics, LLC (“Respondent”) noticed on April 25, 2007 (72 FR 20548). Complainants' original complaint alleged that Respondent Reliable Logistics, LLC's actions as a licensed ocean transportation intermediary (“OTI”) in handling Complainants' cargo violated Section 10(d) of the Shipping Act of 1984 by failing to establish observe, and enforce just and reasonable regulations and practices in connection with transportation services (46 U.S.C. 41102(c)). Complainants assert that Washington International Insurance Company (“Washington International”) is the insurance company that underwrote Respondent's $75,000.00 OTI bond. Complainants' Amended and Supplemental Complaint adds Washington International Insurance Company as a party to this proceeding and sets forth events occurring after the original complaint was filed.

In the Amended and Supplemental Complaint, Complainants contend that Respondent has ceased doing business and that all U.S. mail sent to Respondent has been returned as “undeliverable.” The Commission's attempt to serve notice of this proceeding in April 2007 was also returned. Complainants state that, when initiating this proceeding, Complainants simultaneously commenced an action against Respondent in the Supreme Court of the State of New York. The Commission's proceeding was stayed at Complainants' request while pursuing their New York case to judgment. Complainants assert that a default judgment was issued against Respondent in the New York action in the amount of $181,375.03. Complainants claim that their attempts to receive payment from Washington International by presenting their judgment against Respondent's OTI bond were unsuccessful. Complainants allege that Washington International's denial of their claim undermines the very purpose for which the OTI bond is to stand as security and therefore represents an unfair shipping practice.

Complainants request that the Commission issue an order for reparations against Washington International Insurance Company in the amount of $75,000.00 plus interest from August 17, 2008, and legal fees in pursuing these proceedings. Complainants also request that the Commission grant such other, proper, and further relief as it may deem just, proper and equitable in the circumstances.

Notice is also given that the presiding Administrative Law Judge's Memorandum and Order on Motion to File Amended and Supplemental Complaint (served March 18, 2009) directed Respondents to serve and file their answering memorandum of facts and arguments on or before April 3, 2009.

Karen V. Gregory,
Secretary.

[FR Doc. E9-7316 Filed 3-31-09; 8:45 am]

BILLING CODE 6730-01-P